DEPARTMENT OF JUSTICE

[OMB Number 1140-0008]

Agency Information Collection Activities; Proposed eCollection eComments Requested; Revision of a Previously Approved Collection; Application and Permit for Permanent Exportation of Firearms

AGENCY: Bureau of Alcohol, Tobacco, Firearms and Explosives, Department of Justice.

ACTION: 60-Day notice.

SUMMARY: The Bureau of Alcohol, Tobacco, Firearms and Explosives (ATF), Department of Justice (DOJ), will be submitting the following information collection request to the Office of Management and Budget (OMB) for review and approval in accordance with the Paperwork Reduction Act of 1995.

DATES: Comments are encouraged and will be accepted for 60 days until May 3, 2024.

FOR FURTHER INFORMATION CONTACT: If you have additional comments especially on the estimated public burden or associated response time, suggestions, or need a copy of the proposed information collection instrument with instructions or additional information, contact: Melissa Mason, NFAD, either by mail at 244 Needy Road, Martinsburg, WV 25405, by email at nfaombcomments@atf.gov, or telephone at 304-616-4500.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: ATF Form 9 (5320.9) is typically used by a Federal firearms licensee who has paid the special (occupational) tax to deal, manufacture or import NFA firearms. The form must be filed (in quadruplicate) for approval to permanently export NFA firearms registered in the National Firearms Registration and Transfer Record. Once authorization has been granted, one copy is retained by ATF and the remaining copies returned to the exporter to establish that the exportation took place. The information collection (IC) OMB 1140-0008 (Application and Permit for Permanent Exportation of Firearms—ATF Form 9 (5320.9) is being revised to change the last sentence in `Instructions 1a'. This change includes deleting “to that effect” and adding “certifying compliance with 26 U.S.C. 5854 and 27 CFR 479.33.

Overview of This Information Collection

1. Type of Information Collection: Revision of a previously approved collection.

2. The Title of the Form/Collection: Application and Permit for Permanent Exportation of Firearms.

3. The agency form number, if any, and the applicable component of the Department sponsoring the collection: ATF Form 9 (5320.9).

Component: Bureau of Alcohol, Tobacco, Firearms and Explosives, U.S. Department of Justice.

4. Affected public who will be asked or required to respond, as well as the obligation to respond: Affected Public: Private Sector—businesses for or not for profit institutions. The obligation to respond is required to retain or obtain benefits.

5. An estimate of the total number of respondents and the amount of time estimated for an average respondent to respond: An estimated 1,831 respondents will use the form annually, and it will take each respondent approximately 18 minutes to complete their responses.

6. An estimate of the total annual burden (in hours) associated with the collection: The estimated annual public burden associated with this collection is 549 hours, which is equal to 1,831 (total respondents) * 1 (# of response per respondent) *.30 (18 minutes).

7. An estimate of the total annual cost burden associated with the collection, if applicable: $320.

Total Burden Hours
Activity | Number of respondents | Frequency | Total annual responses | Time per response (mins) | Total annual burden (hours)
ATF Form 9 (5320.9) | 1,831 | 1 | 1,831 | 18 | 549

If additional information is required contact: Darwin Arceo, Department Clearance Officer, United States Department of Justice, Justice Management Division, Policy and Planning Staff, Two Constitution Square, 145 N Street NE, 4W-218, Washington, DC.

Dated: February 28, 2024.
Darwin Arceo,
Department Clearance Officer for PRA, U.S. Department of Justice.

[FR Doc. 2024-04460 Filed 3-1-24; 8:45 am]

BILLING CODE 4410-FY-P